DEPARTMENT OF HEALTH AND HUMAN SERVICES

Office of the Secretary; Findings of Scientific Misconduct

AGENCY: Office of the Secretary, HHS.

ACTION: Notice.

SUMMARY: Notice is hereby given that the Office of Research Integrity (ORI) and the Assistant Secretary for Health have taken final action in the following case:

John W. Rooney, Ph.D., Columbia University: Based on the report of an investigation conducted by Columbia University (CU) (CU Report), an admission by the respondent, and additional analysis performed by ORI in its oversight review, the U.S. Public Health Service (PHS) found that John W. Rooney, Ph.D., former postdoctoral research fellow, CU, engaged in scientific misconduct by falsifying research supported by National Heart, Lung, and Blood Institute (NHLBI), National Institutes of Health (NIH), grant T32 HL007343, National Institute of Allergy and Infectious Diseases (NIAID), NIH, grant R01 AI043576, National Institute of General Medical Sciences (NIGMS), NIH, grant R01 GM029361, and National Cancer Institute (NCI), NIH, grants P01 CA075399 and R01 CA076496.

Specifically, PHS found that Dr. Rooney engaged in scientific misconduct by:

• Falsifying Panels A-C of Figure 1 in the following paper: Rooney, J.W. & Calame, K.L. “TIF1beta functions as a coactivator for C/EBPbeta and is required for induced differentiation in the myelomonocytic cell line U937.” Genes and Development 15:3023-3038, 2001; the respondent falsely claimed that high levels of expression of the TIF1 gene were induced by dimethylsulfoxide and a phorbol ester; and

• Falsifying Figure 3 in the original and Figures 6 and 7 in a revised version of a manuscript (Rooney, J.W., Postel, E.H., & Calame, K.L. “The DNA-cleavage function of NM23-H2/Puf is essential for myeloid differentiation and for transcription of myeloid-specific genes,” submitted to Molecular and Cellular Biology). The respondent falsely claimed that wild-type NM23-H2/Puf protein could cleave DNA promoter sequences in all five purported target genes and that the K12Q mutant protein could not cleave any of them. The respondent also falsely claimed in electrophonetic mobility shift assays that two authentic oligonucleotides bound to the NM23-H2/Puf protein when they did not do so.

The Genes and Development paper has been retracted (Genes and Development 16:2170, 2002), and CU has indicated that the Molecular and Cellular Biology manuscript will not be resubmitted until all of Dr. Rooney's data have been replaced by the work of others.

Dr. Rooney has entered into a Voluntary Exclusion Agreement in which he has voluntarily agreed for a period of three (3) years, beginning on May 16, 2003:

(1) To exclude himself from any contracting or subcontracting with any agency of the United States Government and from eligibility for, or involvement in, nonprocurement transactions of the United States Government as defined in 45 CFR Part 76; and

(2) To exclude himself from serving in any advisory capacity to PHS including but not limited to service on any PHS advisory committee, board, and/or peer review committee, or as a consultant.

FOR FURTHER INFORMATION CONTACT: Director, Division of Investigative Oversight, Office of Research Integrity, 1101 Wootton Parkway, Suite 750, Rockville, MD 20852, (301) 443-5330.

Lawrence J. Rhoades,
Acting Director, Office of Research Integrity.

[FR Doc. 03-16285 Filed 6-26-03; 8:45 am]

BILLING CODE 4150-31-P